DEPARTMENT OF HEALTH AND HUMAN SERVICES

Office of the Secretary

Notice of Publication of Common Agreement for Nationwide Health Information Interoperability (Common Agreement) Version 2.0

AGENCY: Office of the National Coordinator for Health Information Technology, Department of Health and Human Services.

ACTION: Notice.

SUMMARY: This notice fulfills an obligation under the Public Health Service Act (PHSA) that requires the National Coordinator for Health Information Technology to publish on the Office of the National Coordinator for Health Information Technology's public internet website, and in the Federal Register, the trusted exchange framework and common agreement developed under the PHSA. This notice is for publishing an updated version of the Common Agreement (Version 2.0).

FOR FURTHER INFORMATION CONTACT: Mark Knee, Office of the National Coordinator for Health Information Technology, 202-664-2058.

SUPPLEMENTARY INFORMATION: This notice fulfills the obligation under section 3001(c)(9)(C) of the Public Health Service Act (PHSA) (42 U.S.C. 300jj-11(c)(9)(C)) to publish the trusted exchange framework and common agreement, developed under section 3001(c)(9)(B) of the PHSA (42 U.S.C. 300jj-11(c)(9)(B)), in the Federal Register. This publication consists of the following document:

BILLING CODE 4150-45-P

Common Agreement Version 2.0 is also available on the Office of the National Coordinator for Health Information Technology's public internet website at www.HealthIT.gov/TEFCA.

Authority: 42 U.S.C. 300jj-11.

Suhas Tripathi,
National Coordinator for Health Information Technology.

[FR Doc. 2024-09476 Filed 4-30-24; 8:45 am]

BILLING CODE 4150-45-C